DEPARTMENT OF THE TREASURY

Agency Information Collection Activities; Submission for OMB Review; Comment Request; Multiple Financial Crimes Enforcement Network Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before May 27, 2020 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Financial Crimes Enforcement Network (FinCEN)

1. Title: Registration of Money Services Business.

OMB Control Number: 1506-0013.

Type of Review: Extension without change of a currently approved collection.

Description: Under 31 U.S.C. 5330 and its implementing regulation (31 CFR 1022.380), money services businesses must file an initial registration report with FinCEN, renew their registration every two years, re-register under certain circumstances, and maintain a list of their agents.

Form: FinCEN Report 107.

Affected Public: Business or other for-profit institutions.

Estimated Number of Respondents: 36,408.

Frequency of Response: As required, Every two years, and Annually.

Estimated Total Number of Annual Responses: 36,408.

Estimated Time per Response: Varies from 30-70 minutes depending on type of registration.

Estimated Total Annual Burden Hours: 22,007.

2. Title: Imposition of Special Measure concerning the Islamic Republic of Iran as a Jurisdiction of Primary Money Laundering Concern.

OMB Control Number: 1506-0074.

Type of Review: Extension without change of a currently approved collection.

Description: FinCEN issued a final rule on November 4, 2019, imposing the fifth special measure to prohibit U.S. financial institutions from opening or maintaining a correspondent account for, or on behalf of, Iranian banking institutions. (84 FR 59302). The rule further prohibits U.S. financial institutions from processing transactions for the correspondent account of a foreign bank in the United States if such a transaction involves an Iranian financial institution, and requires institutions to apply special due diligence to guard against such use by Iranian financial institutions. See 31 CFR 1010.661.

Form: None.

Affected Public: Business or other for-profit institutions.

Estimated Number of Respondents: 23,615.

Frequency of Response: One-time notification.

Estimated Total Number of Annual Responses: 23,615.

Estimated Time per Response: 1 hour.

Estimated Total Annual Burden Hours: 23,615.

(Authority: 44 U.S.C. 3501 et seq.)

Dated: April 21, 2020.
Spencer W. Clark,
Treasury PRA Clearance Officer.

[FR Doc. 2020-08827 Filed 4-24-20; 8:45 am]

BILLING CODE 4810-02-P